SURFACE TRANSPORTATION BOARD

[Docket No. FD 36781]

Riverside Rail, Inc.—Operation Exemption—Tracks of Riverside Industrial Complex, Inc., in Bucks County, Pa.

Riverside Rail, Inc. (Riverside), a noncarrier, has filed a verified notice of exemption under 49 CFR 1150.31 to operate over approximately 4,665 feet of private railroad tracks located within a 68-acre industrial park known as the Riverside Industrial Complex (Complex) in Bristol Township, Bucks County, Pa. (the Tracks).¹ The Complex and the Tracks are owned by Riverside's corporate parent affiliate, Riverside Industrial Complex, Inc. (RIC), and are adjacent to lines of railroad owned by the National Railroad Passenger Corporation (Amtrak).

¹ Riverside previously filed a verified notice of exemption to operate the Tracks in Docket No. FD 36761, but the notice was rejected for a number of reasons. See Riverside Rail—Operation Exemption—Tracks of Riverside Indus. Complex in Bucks Cnty., Pa., FD 36761 (STB served Mar. 29, 2024). The verified notice filed in Docket No. FD 36781, however, provides sufficient information to proceed with Riverside's exemption.

According to the verified notice, railroad service was provided to shippers within the Complex from 1986 to 2006 by Consolidated Railroad Corporation (Conrail) pursuant to operating rights over a spur track owned by Amtrak and approximately 100 feet of track owned and maintained by Conrail that crossed a public road. Per the verified notice, the Tracks, which are located solely within the Complex, have remained intact on the ground but have been covered in some areas with dirt and concrete. Riverside states that the expansion of existing business in the Complex in recent years and the potential for additional railroad customers locating there in the future have led Amtrak, Conrail, and RIC to negotiate a series of agreements to reestablish railroad service to the Complex. This is to be accomplished through (1) RIC and Riverside uncovering and rehabilitating the Tracks in coordination with Conrail; (2) Amtrak reconstructing the connecting spur track on its property, which is expected to be completed in September 2024; and (3) RIC reinstalling the road crossing, which is also anticipated to occur in September 2024. Upon consummation of its authority from the Board, Riverside will lease the Tracks from RIC and retain the common carrier obligation to provide rail operations over them. However, Riverside anticipates that initially, Conrail will be the physical operator of the Tracks pursuant to trackage or operating rights it obtains from Riverside under a separate agreement and any necessary authority Conrail receives from the Board. The verified notice states that rail operations by Conrail will consist primarily of switching railcars to and from shippers in the Complex and a point of connection to the tracks of Amtrak. Any future operations by Riverside would be in interchange with Conrail on Complex property.

Riverside certifies that its annual projected revenues as a result of the transaction will not exceed those that would qualify it as a Class III carrier and will not exceed $5 million. Riverside also states that neither its lease and operating agreement with RIC nor Riverside's and/or Conrail's proposed operation of the Tracks involve any provision or agreement that would limit future interchange with a third-party connecting carrier.

The earliest this transaction may be consummated is September 22, 2024, the effective date of the exemption.

If the verified notice contains false or misleading information, the exemption is void ab initio. Petitions to revoke the exemption under 49 U.S.C. 10502(d) may be filed at any time. The filing of a petition to revoke will not automatically stay the effectiveness of the exemption. Petitions for stay must be filed no later than September 13, 2024 (at least seven days before the exemption becomes effective).

All pleadings, referring to Docket No. FD 36781, must be filed with the Surface Transportation Board either via e-filing on the Board's website or in writing addressed to 395 E Street SW, Washington, DC 20423-0001. In addition, a copy of each pleading must be served on Riverside's representative, Thomas W. Wilcox, Law Office of Thomas W. Wilcox, LLC, 1629 K Street NW, Suite 300, Washington, DC 20006.

According to Riverside, this action is categorically excluded from environmental review under 49 CFR 1105.6(c) and from historic preservation reporting requirements under 49 CFR 1105.8(b).

Board decisions and notices are available at www.stb.gov.

Decided: September 3, 2024.
By the Board, Valerie O. Quinn, Acting Director, Office of Proceedings.
Eden Besera,
Clearance Clerk.

[FR Doc. 2024-20118 Filed 9-5-24; 8:45 am]

BILLING CODE 4915-01-P